DEPARTMENT OF TRANSPORTATION

Federal Aviation Administration

14 CFR Part 73

[Docket No. FAA-2010-1071; Airspace Docket No. 10-ASO-28]

RIN 2120-AA66

Amendment of Using Agency for Restricted Areas R-5301; R-5302A, B, and C; and R-5313A, B, C and D; NC

AGENCY: Federal Aviation Administration (FAA), DOT.

ACTION: Final rule.

SUMMARY: This action makes a minor change to the name of the using agency for restricted areas R-5301 Albemarle Sound, NC; R-5302A, B and C, Harvey Point, NC; and R-5313A, B, C and D, Long Shoal Point, NC to read “U.S. Navy, Fleet Area Control and Surveillance Facility, Virginia Capes (FACSFAC VACAPES), Virginia Beach, VA.” This is an administrative change only and there are no changes to the dimensions, time of designation or activities conducted within the affected restricted areas.

DATES: Effective date 0901 UTC, January 13, 2011.

FOR FURTHER INFORMATION CONTACT: Paul Gallant, Airspace, Regulations and ATC Procedures Group, Office of Airspace Systems, Federal Aviation Administration, 800 Independence Avenue, SW., Washington, DC 20591; telephone: (202) 267-8783.

SUPPLEMENTARY INFORMATION:

Background

The U.S. Navy requested a minor change to the name of the using agency for restricted areas R-5301; R-5302A, B and C; and R-5313A, B, C and D, in North Carolina by removing the words “NAS Oceana” from the description in order to reflect the organization's current designation.

The Rule

This action amends Title 14 Code of Federal Regulations (14 CFR) part 73 by changing the using agency names for restricted area R-5301 Albemarle Sound, NC; restricted areas R-5302A, B and C, Harvey Point, NC; and restricted areas R-5313A, B, C and D, Long Shoal Point, NC from “U.S. Navy, Fleet Area Control and Surveillance Facility, Virginia Capes (FACSFAC VACAPES), NAS Oceana, Virginia Beach, VA,” to “U.S. Navy, Fleet Area Control and Surveillance Facility, Virginia Capes (FACSFAC VACAPES), Virginia Beach, VA.”. This is an administrative change and does not affect the boundaries, designated altitudes, or activities conducted within the restricted area; therefore, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311d., FAA Order 1050.1E, Environmental Impacts: Policies and Procedures. This airspace action is an administrative change to the descriptions of the affected restricted areas to update the using agency name. It does not alter the dimensions, altitudes, or times of designation of the airspace; therefore, it is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.53 [Amended]

2. § 73.53 is amended as follows:

* * * * *

1. R-5301 Albemarle Sound, NC [Amended]

By removing the words “Using agency. U.S. Navy, Fleet Area Control and Surveillance Facility, Virginia Capes (FACSFAC VACAPES), NAS Oceana, Virginia Beach, VA” and inserting the words “Using agency. U.S. Navy, Fleet Area Control and Surveillance Facility, Virginia Capes (FACSFAC VACAPES), Virginia Beach, VA.”

2. R-5302A Harvey Point, NC [Amended]

By removing the words “Using agency. U.S. Navy, Fleet Area Control and Surveillance Facility, Virginia Capes (FACSFAC VACAPES), NAS Oceana, Virginia Beach, VA” and inserting the words “Using agency. U.S. Navy, Fleet Area Control and Surveillance Facility, Virginia Capes (FACSFAC VACAPES), Virginia Beach, VA.”

3. R-5302B Harvey Point, NC [Amended]

By removing the words “Using agency. U.S. Navy, Fleet Area Control and Surveillance Facility, Virginia Capes (FACSFAC VACAPES), NAS Oceana, Virginia Beach, VA” and inserting the words “Using agency. U.S. Navy, Fleet Area Control and Surveillance Facility, Virginia Capes (FACSFAC VACAPES), Virginia Beach, VA.”

4. R-5302C Harvey Point, NC [Amended]

By removing the words “Using agency. U.S. Navy, Fleet Area Control and Surveillance Facility, Virginia Capes (FACSFAC VACAPES), NAS Oceana, Virginia Beach, VA” and inserting the words “Using agency. U.S. Navy, Fleet Area Control and Surveillance Facility, Virginia Capes (FACSFAC VACAPES), Virginia Beach, VA.”

5. R-5313A Long Shoal Point, NC [Amended]

By removing the words “Using agency. U.S. Navy, Fleet Area Control and Surveillance Facility, Virginia Capes (FACSFAC VACAPES), NAS Oceana, Virginia Beach, VA” and inserting the words “Using agency. U.S. Navy, Fleet Area Control and Surveillance Facility, Virginia Capes (FACSFAC VACAPES), Virginia Beach, VA.”

6. R-5313B Long Shoal Point, NC [Amended]

By removing the words “Using agency. U.S. Navy, Fleet Area Control and Surveillance Facility, Virginia Capes (FACSFAC VACAPES), NAS Oceana, Virginia Beach, VA” and inserting the words “Using agency. U.S. Navy, Fleet Area Control and Surveillance Facility, Virginia Capes (FACSFAC VACAPES), Virginia Beach, VA.”

7. R-5313C Long Shoal Point, NC [Amended]

By removing the words “Using agency. U.S. Navy, Fleet Area Control and Surveillance Facility, Virginia Capes (FACSFAC VACAPES), NAS Oceana, Virginia Beach, VA” and inserting the words “Using agency. U.S. Navy, Fleet Area Control and Surveillance Facility, Virginia Capes (FACSFAC VACAPES), Virginia Beach, VA.”

8. R-5313D Long Shoal Point, NC [Amended]

By removing the words “Using agency. U.S. Navy, Fleet Area Control and Surveillance Facility, Virginia Capes (FACSFAC VACAPES), NAS Oceana, Virginia Beach, VA” and inserting the words “Using agency. U.S. Navy, Fleet Area Control and Surveillance Facility, Virginia Capes (FACSFAC VACAPES), Virginia Beach, VA.”

* * * * *

Issued in Washington, DC, on November 4, 2010.
Edith V. Parish,
Manager, Airspace, Regulations and ATC Procedures Group.

[FR Doc. 2010-28388 Filed 11-9-10; 8:45 am]

BILLING CODE 4910-13-P